LIBRARY OF CONGRESS

Copyright Office

[Docket No. 2005-1]

Registration of Claims to Copyright: New Format for Certain Copyright Registration Certificates

AGENCY: Copyright Office, Library of Congress.

ACTION: Policy decision.

SUMMARY: The Copyright Office of the Library of Congress is changing the format of certain copyright registration certificates issued under the Copyright Act. Certificates in the new format will be issued only for motion pictures and other audiovisual works registered in class PA, as part of a pilot project. For all other categories of registrations, the certificate format will not change. The substantive content of all certificates will remain the same.

DATES: Effective Date: February 14, 2005.

FOR FURTHER INFORMATION CONTACT: Jeff Cole, Acting Reengineering Program Manager, or Kent Dunlap, Principal Legal Advisor to the General Counsel. Telephone: (202) 707-8350. Telefax: (202) 707-8366.

SUPPLEMENTARY INFORMATION:

1. Background

Section 410(a) of the copyright law provides that after the Register of Copyrights examines a submitted copyright claim and determines that it can be registered, “the Register shall register the claim and issue to the applicant a certificate of registration under the seal of the Copyright Office. The certificate shall contain the information given in the application, together with the number and effective date of registration.” Under practices in place since 1978, registration certificates are reproductions of the paper application form.

The Copyright Office is reengineering its business processes to improve the efficiency and timeliness of its public services. The Office is seeking to provide more copyright services online, ensure the prompt availability of copyright records, provide better tracking of items in the workflow, and reduce paper handling. Reengineering is a multi-year effort that began in 2000, and full implementation is scheduled for the fall of 2006.

Under the reengineered process, copyright registration certificates will be generated from the registration data stored in an electronic information system. The data will be entered into the system either directly from an online electronic application, or by the scanning of a revised paper application form. Unlike the current certificate, the new certificate will not be a reproduction of the paper application form.

2. Pilot for Registration of Motion Pictures and Other Audiovisual Works

To test the new processes, a pilot will begin on February 14, 2005, involving registrations for motion pictures and other audiovisual works registered in class PA. During the pilot, applicants will continue to file claims using the current Form PA paper application. Online electronic applications will be the subject of a later pilot.

In the pilot, the certificate will be generated from the registration data scanned into the system from the Form PA paper application. While the substantive content of the new certificate will be almost identical to that of the current one, the format and general appearance will be significantly different. A sample of the new certificate may be viewed on the Copyright Office Web site at http://www.copyright.gov/docs/mp-pilot-cert.html.

All of the substantive registration information entered on the paper form by the applicant will appear on the certificate, organized by the same space numbers and headings. At the top of the certificate, the same elements will appear: the registration number, the effective date of registration, and the certification, including the Copyright Office seal and the signature of the Register of Copyrights.

Certain incidental information unrelated to the substance of the copyright claim will be eliminated from the new certificate. The omitted material may include the instructional text found on the paper form, some headings of lines left blank where the information is not required, the “checked by” line in the “Copyright Office use only” space, the deposit account name and number, and the handwritten signature. Also, the mailing address for the certificate will be printed on a separate sheet of paper to facilitate mailing.

3. Copyright Office Practices in Administering the Pilot

When appropriate, the Copyright Office will continue to make amendments to information on the Form PA application, with the authorization of the applicant by telephone call, letter, or email. In a change from the current procedure, such amendments will no longer appear as annotations on the certificate; instead, the certificate will show only the corrected information. The applicant's authorization for the amendment, as well as all correspondence and records of phone calls, will be stored in a permanent electronic file created for every registration. This information will be part of the public record, and persons wishing to obtain access to or copies of this information may do so under existing procedures set forth at 37 CFR 201.2.

In limited situations, following existing practices, the Copyright Office will make annotations without contacting the applicant, when the information is clear from the deposit copy or other registration materials. In addition, annotations may be added to the certificate to clarify the scope of the copyright claim in accordance with the copyright law or Copyright Office regulations. Examples include: noting the nature of the deposit copy; noting the presence of preexisting material clearly identified as such in the deposit copy; and commenting on a reference to an element not subject to copyright protection under 17 USC 102(b), e.g. “idea,” or 37 CFR 202.1, e.g. “title.”

4. Transition Period

Certificates in the new format will be produced only for applications included in the pilot project and initially received in the Copyright Office on or after the start date, February 14, 2005. For applications for motion pictures and other class PA audiovisual works already in process in the Copyright Office on that date, including those for which correspondence is pending, certificates will continue to be issued in the current format, even after the pilot begins.

Dated: January 14, 2005.
Marybeth Peters,
Register of Copyrights.

[FR Doc. 05-1131 Filed 1-19-05; 8:45 am]

BILLING CODE 1410-30-M